NATIONAL SCIENCE FOUNDATION

Proposal Review Panel for Ocean Sciences; Notice of Meeting

In accordance with the Federal Advisory Committee Act (Pub. L. 92-463, as amended), the National Science Foundation (NSF) announces the following meeting:

NAME AND COMMITTEE CODE: Proposal Review Panel for Ocean Sciences (#10752)—JOIDES Resolution Science Operator (JRSO), Texas A&M (Site Visit).

DATE AND TIME: February 28-March 2, 2018, 9:00 a.m.-5:00 p.m.

PLACE: JOIDES Resolution Science Operator (JRSO), Texas A&M University, 1000 Discovery Drive, Texas A&M University West Campus, College Station, TX 77845, Conference Room C126.

TYPE OF MEETING: Part-open.

CONTACT PERSON: James F. Allan, Program Director, Ocean Drilling, Division of Ocean Sciences; National Science Foundation, 2415 Eisenhower Avenue, Alexandria, VA 22314; Telephone: (703) 292-8144.

PURPOSE OF MEETING: Site visit to provide advice and recommendations concerning the performance of the International Ocean Discovery Program (IODP) drillship facility JOIDES Resolution during FY 2017.

AGENDA:

Wednesday, February 28

9:00 a.m.-9:15 a.m. NSF and panel introduction (Open)

9:15 a.m.-11:00 a.m. Initial Report of the JOIDES Resolution Science Operator (JRSO) (Open)

11:00 a.m.-12:00 p.m. Co-Chief Review Report (Open)

12:00 p.m.-1:00 p.m. Lunch (Open)

1:00 p.m.-3:00 p.m. JRSO response to Co-Chief Review Report (Open)

3:00 p.m.-4:00 p.m. Meet with JRSO Staff (Open)

4:00 p.m.-5:00 p.m. Site Visit Panel discussion of presentations and overnight questions to JRSO (Closed)

Thursday, March 1

9:00 a.m.-11:00 a.m. JRSO discussion of major challenges in operational context, and how they are responding (Open)

11:00 a.m.-12:00 p.m. Effectiveness of Programmatic Planning Structure (Open)

12:00 p.m.-1:00 p.m. Lunch (Open)

1:00 p.m.-2:00 p.m. JRSO discussion of major challenges in providing services and innovation to IODP science community, and how they are responding (Open)

2:00 p.m.-3:00 p.m. Response of JRSO to Panel questions if any remain (Open)

3:00 p.m.-3:30 p.m. Break

3:30 p.m.-5:00 p.m. Site Visit Panel discussion on panel report structure and overnight questions to JRSO (Closed)

Friday, March 2

9:00 a.m.-10:00 a.m. Site Visit Panel discussion; work on report (Closed)

10:00 a.m.-11:00 a.m. Response of JRSO to Panel questions (Open)

11:00 a.m.-12:00 p.m. Site Visit Panel discussion; work on report (Closed)

12:00 p.m.-1:00 p.m. Lunch (Closed)

1:00 p.m.-3:30 p.m. Site Visit Panel discussion; work on report (Closed)

3:30 p.m.-4:00 p.m. Break

4:00 p.m.-5:00 p.m. Site Visit Panel presents report and recommendations to JRSO (Closed)

REASON FOR CLOSING: During closed sessions the review will include information of a proprietary or confidential nature, including technical information; financial data, such as salaries; and personal information concerning individuals associated with the review. These matters are exempt under 5 U.S.C. 552b(c), (4) and (6) of the Government in the Sunshine Act.

Dated: December 19, 2017.
Crystal Robinson,
Committee Management Officer.

[FR Doc. 2017-27587 Filed 12-21-17; 8:45 am]

BILLING CODE 7555-01-P